FEDERAL MARITIME COMMISSION

Ocean Transportation Intermediary License Rescission of Order of Revocation

The Commission gives notice that it has rescinded its Order revoking the following license pursuant to section 40901 of the Shipping Act of 1984 (46 U.S.C. 40101).

License No.: 008504N.

Name: Hyun Dae Trucking Co., Inc.

Address: 3022 S. Western Avenue, Los Angeles, CA 90018.

Order Published: January 25, 2013 (Volume 78, No. 17, Pg. 5440).

Vern W. Hill,
Director, Bureau of Certification and Licensing.

[FR Doc. 2013-05315 Filed 3-6-13; 8:45 am]

BILLING CODE 6730-01-P